DEPARTMENT OF ENERGY

Federal Energy Regulatory Commission

Notice of Application for Non-Project Use of Project Lands and Waters and Soliciting Comments, Motions To Intervene, and Protests

January 30, 2004.

Take notice that the following application has been filed with the Commission and is available for public inspection:

a. Application Type: Non-Project Use of Project Lands and Waters.

b. Project No: 349-091.

c. Date Filed: January 16, 2004.

d. Applicant: Alabama Power Company.

e. Name of Project: Martin Dam Hydroelectric Project.

f. Location: Lake Martin in Tallapoosa County, Alabama.

g. Filed Pursuant to: Federal Power Act, 16 U.S.C. 791(a), 825(r) and §§ 799 and 801.

h. Applicant Contact: Mr. Keith E. Bryant, Sr. Engineer, Hydro Services, Alabama Power, 600 North 18th Street, Post Office Box 2641, Birmingham, Alabama 35291, (205) 257-1403.

i. FERC Contacts: Any questions on this notice should be addressed to Ms. Jean Potvin at (202) 502-8928, or e-mail address: jean.potvin@ferc.gov.

j. Deadline for filing comments and or motions: March 1, 2004.

All documents (original and eight copies) should be filed with: Ms. Magalie R. Salas, Secretary, Federal Energy Regulatory Commission, 888 First Street, NE., Washington, DC 20426. Please include the project number (P-349-091) on any comments or motions filed. Comments, protests, and interventions may be filed electronically via the Internet in lieu of paper. See, 18 CFR 385.2001(a)(1)(iii) and the instructions on the Commission's web site under the “e-Filing” link. The Commission strongly encourages e-filings.

k. Description of Proposal: Alabama Power Company is requesting Commission approval to permit Harbor Pointe Development to use project lands below the 490-foot contour to accommodate the following: (1) Installation of a total of 64 new boat slips; (2) relocation and upgrade of a walkway and fuel dock; (3) relocation and upgrade of the sewage pump out station; (4) construction of a seawall approximately 2,812 feet long (of which 400 feet are presently under construction pursuant to the Commission's Order Approving Non-Project Use of Project Lands issued December 23, 2003); and (5) the construction of a new boat ramp. The marina presently consists of 153 floating boat slips, a fuel dock and sewage pump out station. The marina is located on the Blue Creek portion of Lake Martin within the StillWaters Resort near Dadeville, Tallapoosa County, Alabama.

l. Location of the Applications: The filings are available for review at the Commission in the Public Reference Room, located at 888 First Street, NE., Room 2A, Washington, D.C. 20426, or may be viewed on the Commission's Web site at http://www.ferc.gov using the “eLibrary” link. Enter the docket number excluding the last three digits in the docket number field to access the document. For assistance, please call the Helpline at (866) 208-3676 or contact FERCOnLineSupport@ferc.gov. For TTY, contact (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described applications. A copy of the applications may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E4-200 Filed 2-5-04; 8:45 am]

BILLING CODE 6717-01-P